DEPARTMENT OF TRANSPORTATION

Federal Aviation Administration

14 CFR Part 39

[Docket No. FAA-2005-20357; Directorate Identifier 2004-NM-120-AD]

RIN 2120-AA64

Airworthiness Directives; Boeing Model 767 Series Airplanes

AGENCY: Federal Aviation Administration (FAA), Department of Transportation (DOT).

ACTION: Notice of proposed rulemaking (NPRM).

SUMMARY: The FAA proposes to adopt a new airworthiness directive (AD) for certain Boeing Model 767 series airplanes. This proposed AD would require replacing hinge assemblies with new hinge assemblies in the outboard overhead stowage bins and reworking hinge assemblies in the outboard overhead stowage bins that are adjacent to curtain tracks. This proposed AD is prompted by reports of hinge assemblies of outboard overhead stowage bins breaking or the stowage bin doors not latching properly. We are proposing this AD to prevent the outboard overhead stowage bins opening during flight and releasing baggage, and consequently cause passenger injury and blockage of the aisles during emergency egress.

DATES: We must receive comments on this proposed AD by April 1, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or at the Docket Management Facility, U.S. Department of Transportation, 400 Seventh Street, SW., room PL-401, on the plaza level of the Nassif Building, Washington, DC. This docket number is FAA-2005-20357; the directorate identifier for this docket is 2004-NM-120-AD.

FOR FURTHER INFORMATION CONTACT: Susan Rosanske, Aerospace Engineer, Cabin Safety and Environmental Systems Branch, ANM-150S, FAA, Seattle Aircraft Certification Office, 1601 Lind Avenue, SW., Renton, Washington 98055-4056; telephone (425) 917-6448; fax (425) 917-6590.

SUPPLEMENTARY INFORMATION:

Comments Invited

We invite you to submit any written relevant data, views, or arguments regarding this proposed AD. Send your comments to an address listed under ADDRESSES. Include “Docket No. FAA-2005-20357; Directorate Identifier 2004-NM-120-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that operators have experienced instances of hinge assemblies breaking on outboard overhead stowage bins on Boeing Model 767 series airplanes. It has been determined that the hinge assemblies do not meet strength standards and could break or latch improperly. This condition, if not corrected, could result in the outboard overhead stowage bins opening during flight and releasing baggage, and consequently cause passenger injury and blockage of the aisles during emergency egress.

Relevant Service Information

We have reviewed Boeing Special Attention Service Bulletin 767-25-0078, Revision 4, dated June 10, 2004. The service bulletin describes procedures for replacing the hinge assemblies in the outboard overhead stowage bins with new, stiffer four-bar linkage hinge assemblies. The service bulletin also describes procedures for reworking hinge assemblies in the outboard overhead stowage bins that are adjacent to curtain tracks. This service bulletin supersedes Boeing Service Bulletin 767-25-47. Accomplishing the actions specified in the service information is intended to adequately address the unsafe condition, except as described in “Differences Between the Proposed AD and the Service Bulletin.”

Differences Between the Proposed AD and the Service Bulletin

Although the service bulletin recommends accomplishing the hinge assembly replacements “as soon as manpower and facilities are available,” the manufacturer has recommended a compliance time of 72 months.

Although the service bulletin specifies that operators may contact the manufacturer for disposition of certain repair conditions, this proposed AD would require operators to repair those conditions according to a method approved by the FAA.

These differences have been coordinated with the manufacturer.

FAA's Determination and Requirements of the Proposed AD

We have evaluated all pertinent information and identified an unsafe condition that is likely to exist or develop on other airplanes of this same type design. Therefore, we are proposing this AD, which would require replacing hinge assemblies having part number 413T1017-() with new hinge assemblies having part number 413T1002-() in the outboard overhead stowage bins. The proposed AD would require you to use the service information described previously to perform these actions.

Costs of Compliance

There are about 172 airplanes of the affected design in the worldwide fleet. This proposed AD would affect about 75 airplanes of U.S. registry. The proposed actions would take about 20 work hours (.33 work hours per stowage bins; there are about 60 bins on an airplane) per airplane, at an average labor rate of $65 per work hour. Required parts would cost about $154,560 per airplane ($2,576 per bin). Based on these figures, the estimated cost of the proposed AD for U.S. operators is $11,689,500, or $155,860 per airplane.

The cost impact figure discussed above is based on assumptions that no operator has yet accomplished any of the actions required by this AD, and that no operator would accomplish those actions in the future if this AD were not adopted. However, we have been advised that the terminating modification has already been installed on some affected overhead stowage bins on some airplanes. Therefore, the future economic cost impact of this rule on U.S. operators is expected to be less than the cost impact figure indicated above.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-20357; Directorate Identifier 2004-NM-120-AD.

Comments Due Date

(a) The Federal Aviation Administration (FAA) must receive comments on this AD action by April 1, 2005.

Affected ADs

(b) None.

Applicability

(c) This AD applies to Boeing Model 767-200 and -300 series airplanes, certificated in any category; as listed in Boeing Special Attention Service Bulletin 767-25-0078, Revision 4, June 10, 2004.

Unsafe Condition

(d) This AD was prompted by reports of hinge assemblies of outboard overhead stowage bins breaking or the stowage bin doors not latching properly. We are issuing this AD to prevent the outboard overhead stowage bins opening during flight and releasing baggage, and consequently cause passenger injury and blockage of the aisles during emergency egress.

Compliance

(e) You are responsible for having the actions required by this AD performed within the compliance times specified, unless the actions have already been done.

Replacement

(f) Within 72 months after the effective date of this AD, do paragraphs (f)(1) and (f)(2) of this AD.

(1) Replace both hinge assemblies in the outboard overhead stowage bins with new hinge assemblies, in accordance with the Accomplishment Instructions of Boeing Special Attention Service Bulletin 767-25-0078, Revision 4, dated June 10, 2004. If, during the replacement, any hinge does not close within the limits specified in the service bulletin, before further flight, repair the hinge according to a method approved by the Manager, Seattle Aircraft Certification Office (ACO), FAA. For a repair method to be approved by the Manager, Seattle ACO, as required by this paragraph, the Manager's approval letter must specifically refer to this AD.

(2) Rework hinges that are in stowage bins located adjacent to a curtain track in accordance with the Accomplishment Instructions of Boeing Special Attention Service Bulletin 767-25-0078, Revision 4, dated June 10, 2004.

Previously Accomplished Actions

(g) Replacement of the hinge assemblies with new hinge assemblies accomplished before the effective date of this AD in accordance with a Boeing service bulletin listed in Table 1 of this AD is acceptable for compliance with the requirements of paragraph (f) of this AD, except as specified in paragraph (h) of this AD.

Table 1.—Acceptable Boeing Service Bulletins
Boeing— | Revision level | Dated
Service Bulletin 767-25-0078 | Original | June 25, 1987.
Service Bulletin 767-25-0078 | 1 | May 19, 1988.
Service Bulletin 767-25-0078 (see paragraph (h) of this AD) | 2 | March 16, 1989.
Special Attention Service Bulletin 767-25-0078 | 3 | July 12, 2001.

(h) Boeing Special Attention Service Bulletin 767-25-0078, Revision 2, dated March 16, 1989, allows for replacement of the hinge assemblies on an attrition basis (replacing the existing hinge assembly when it is broken or worn beyond functionality with a new hinge assembly). For this reason, airplanes that have been modified in accordance with Boeing Special Attention Service Bulletin 767-25-0078, Revision 2, dated March 16, 1989, may still have some hinge assemblies that have not been replaced or reworked per the service bulletin. In such cases, this AD requires that all applicable hinge assemblies be replaced and reworked within the compliance time specified in paragraph (f).

Parts Installation

(i) As of the effective date of this AD, no one may install a hinge assembly in the outboard overhead stowage bins, having part number 413T1017-() on any airplane to which this AD applies.

Alternative Methods of Compliance (AMOCs)

(j) The Manager, Seattle Aircraft Certification Office (ACO), FAA, has the authority to approve AMOCs for this AD, if requested in accordance with the procedures found in 14 CFR 39.19.

Issued in Renton, Washington, on February 6, 2005.
Ali Bahrami,
Manager, Transport Airplane Directorate, Aircraft Certification Service.

[FR Doc. 05-2833 Filed 2-14-05; 8:45 am]

BILLING CODE 4910-13-P